DEPARTMENT OF LABOR

Employment and Training Administration

Notice of a Change in Status of an Extended Benefit (EB) Period for Louisiana

This notice announces a change in benefit period eligibility under the EB Program for Louisiana.

Summary

The following change has occurred since the publication of the last notice regarding the State's EB status:

• October 30, 2005. Louisiana triggered “on” EB. Louisiana's 13-week insured unemployment rate for the week ending October 15, 2005, rose above the 5.0 percent threshold necessary to be triggered “on” to EB effective for the week beginning October 30, 2005.

Information for Claimants

The duration of benefits payable in the EB Program, and the terms and conditions on which they are payable, are governed by the Federal-State Extended Unemployment Compensation Act of 1970, as amended, and the operating instructions issued to the States by the U.S. Department of Labor. In the case of a State beginning an EB period, the State Workforce Agency will furnish a written notice of potential entitlement to each individual who has exhausted all rights to regular benefits and is potentially eligible for EB (20 CFR 615.13(c)(1)).

Persons who believe they may be entitled to EB, or who wish to inquire about their rights under the program, should contact the nearest State Workforce Agency in their locality.

Signed at Washington, DC, on November 7, 2005.
Emily Stover DeRocco,
Assistant Secretary of Labor for Employment and Training.

[FR Doc. 05-22797 Filed 11-16-05; 8:45 am]

BILLING CODE 4510-30-M